DEPARTMENT OF DEFENSE

Office of the Secretary

Notice of Intent To Prepare an Environmental Impact Statement (EIS) for the Long Range Discrimination Radar (LRDR) at Clear Air Force Station (CAFS)

AGENCY: Missile Defense Agency, Department of Defense.

ACTION: Notice of intent.

SUMMARY: The Missile Defense Agency (MDA) announces its intention to prepare an Environmental Impact Statement (EIS) in accordance with the National Environmental Policy Act (NEPA) of 1969 and the Council on Environmental Quality Regulations for Implementing the Procedural Provisions of NEPA. MDA began construction of the LRDR following a 2016 Environmental Assessment (EA) and Finding of No Significant Impact (FONSI). Due to threat evolution, operational requirements have created the need to expand the current Special Use Airspace (SUA) at Clear Air Force Station (AFS) to protect nearby aircraft. Several potential designs of the additional SUA have been developed. The MDA is preparing this EIS to evaluate potential environmental impacts that could result from the LRDR SUA alternatives. The Department of Defense has not selected a preferred alternative for the proposed SUA.

DATES: Scoping meetings will be held in the Alaskan communities of Anderson, Fairbanks and Anchorage during June 2019. Notification of the meeting locations, dates, and times will be published and announced in local news media prior to public scoping meetings.

The MDA invites public comments on the scope of the LRDR EIS during a 30-day public scoping period beginning with publication of this notice in the Federal Register. Comments will be accepted on or before June 17, 2019.

ADDRESSES: Written comments, statements, and/or concerns regarding the scope of the EIS or requests to be added to the EIS distribution list should be addressed to MDA CAFS EIS and sent by email to info@cleareis.com, by facsimile 907-644-2022, or by U.S. Postal Service to Clear EIS c/o HDR, Inc., 2525C Street, Suite 500, Anchorage, AK 99503. Electronic or facsimile comments are preferred. If sending comments by U.S. Postal Service, please do not submit duplicate electronic or facsimile comments. All comments, including names and addresses, will be included in the administrative record.

FOR FURTHER INFORMATION CONTACT: Mark Wright, MDA Public Affairs at 256-450-1599 or by email: mda.info@mda.mil. Additional information can be found at MDA's website: https://www.mda.mil/news/nepa_documents.html.

SUPPLEMENTARY INFORMATION: In accordance with 40 Code of Federal Regulations (CFR) 1501.6, cooperating agencies for consultation, review, and comment on the EIS include the Federal Aviation Administration (FAA) and U.S. Air Force (USAF). Other cooperating agencies may be identified during the scoping process.

An initial EA was prepared in April 2016 and resulted in a FONSI in June 2016 to support the construction and operation of the LRDR. A detailed analysis of all resource categories was assessed in the EA. Since that time, the adversary threat evaluation has evolved requiring changes to the LRDR's plans for operation, which in turn required MDA to reexamine the LRDR's operational tempo and battlespace coverage. To meet these more challenging requirements, LRDR operational and system procedures were adapted, resulting in expanded requirements for a Special Use Airspace (SUA) at CAFS that will provide continual protection for aircraft from LRDR High Intensity Radiated Fields (HIRF).

Restricted Area R-2206 is currently in effect at CAFS. Designed and implemented over 50 years ago to support the original Ballistic Missile Early Warning System (BMEWS) and its replacement, the Upgraded Early Warning Radar (UEWR), R-2206 will no longer be sufficient to protect aircraft from HIRF levels that will be generated by the more powerful LRDR in its expanded role discussed in this notice. Alternative designs for the additional Restricted Area have been developed. The EIS will analyze potential environmental impacts from each alternative. Our preliminary indications are that the majority of impacts will be in the areas of socioeconomics and airspace. However, to the extent these impacts differ from those analyzed in the 2016 EA, we will analyze them in this EIS process.

This EIS will support the FAAs SUA rule-making process and meet National Historic Preservation Act requirements, including Section 106 Consultation.

The MDA encourages all interested members of the public, as well as federal, state, tribal and local agencies, to participate in the scoping process for the preparation of this EIS. The scoping process assists in determining the scope of issues to be addressed and helps identify significant environmental issues to be analyzed in-depth in the EIS.

Dated: May 14, 2019.
Aaron T. Siegel,
Alternate OSD Federal Register Liaison Officer, Department of Defense.

[FR Doc. 2019-10244 Filed 5-16-19; 8:45 am]

BILLING CODE 5001-06-P